ENVIRONMENTAL PROTECTION AGENCY

40 CFR Part 155

[OPP-2004-0404; FRL-7727-9]

Pesticides; Procedural Regulations for Registration Review; Notice of Public Meeting

AGENCY: Environmental Protection Agency (EPA).

ACTION: Proposed rule.

SUMMARY: EPA is convening two public information sessions to explain the provisions of its recently published proposed rule establishing procedural regulations for registration review in 40 CFR part 155, subpart C. These meetings are open to the public.

DATES: The first public information session will be held on August 23, 2005, from 10 a.m. to 3:30 p.m in the Washington, DC area. The second public information session will be held on September 1, 2005, from 10 a.m. to 3:30 p.m in the Chicago, IL area.

ADDRESSES: The August 23, 2005 public information session will be held at the Sheraton Crystal City Hotel, 1800 Jefferson Davis Highway, Arlington, VA 22202.

The September 1, 2005 public information session will be held at the Metcalf Federal Building, Room #331, 77 West Jackson Boulevard, Chicago, IL 60604. Visitor information for the September 1, 2005 location may be found at http://www.epa.gov/region5/visitor/index.htm.

FOR FURTHER INFORMATION CONTACT: Nathanael Martin, Field and External Affairs Division (7506C), Office of Pesticide Programs, Environmental Protection Agency, 1200 Pennsylvania Ave., NW., Washington, DC 20460-0001; telephone number: (703) 305-6475; fax number: (703) 305-5884; e-mail address: martin.nathanael@epa.gov.

SUPPLEMENTARY INFORMATION:

I. General Information

A. Does this Action Apply to Me?

You may be potentially affected by this action if you hold pesticide registrations. Pesticide users or other persons interested in the regulation of the sale, distribution or use of pesticides may also be interested in action. Potentially affected entities may include, but are not limited to:

• Producers of pesticide products (NAICS code 32532)

• Producers of antifoulant paints (NAICS code 32551)

• Producers of antimicrobial pesticides (NAICS code 32561)

• Producers of nitrogen stabilizer products (NAICS code 32531)

• Producers of wood preservatives (NAICS code 32519)

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions of proposed § 155.40 of the regulatory text in the Federal Register of July 13, 2005 (70 FR 40251) (FRL-7718-4). If you have any questions regarding the applicability of this action to a particular entity, consult the person listed under FOR FURTHER INFORMATION CONTACT.

B. How Can I Get Copies of this Document and Other Related Information?

1. Docket. EPA has established an official public docket for this action under docket identification (ID) number OPP-2004-0404. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

EPA is convening several public information sessions to explain the provisions of the proposed rule establishing procedural regulations for registration review. The proposed procedural regulations were published in the Federal Register of July 13, 2005. You may access this document electronically through the EPA Internet under the “Federal Register” listings at http://www.epa.gov/fedrgstr/ or from the Agency's E-docket at http://www.epa.gov/edocket/ OPP-2004-0404. Registration review is the periodic review of a pesticide's registration to assure that each pesticide registration continues to satisfy the Federal Insecticide, Fungicide, and Rodenticide Act (FIFRA) standard for registration. The registration review program will replace the tolerance reassessment program and the reregistration program as the Agency's means for systematically reviewing existing pesticides.

The purpose of these meetings is to engage members of the public in a discussion of the proposed regulations and the proposed registration review program so that interested persons can make constructive and timely comments on the proposed rule. Staff from EPA's Office of Pesticide Programs will provide a general explanation of the registration review procedures and discuss, among other things, the Agency's goals and expectations for this program, proposed scheduling procedures, the proposed process for conducting a review, differences and similarities between reregistration and registration review, and stakeholder and public participation in the new registration review process. EPA will respond to questions that are raised during the meeting. However, in order for remarks to constitute official comments on the proposed rule, comments must be submitted in writing to the docket, as explained in Unit I. of this notice.

A 90-day comment period on the proposed procedural regulations will end on October 11, 2005. Instructions for submitting comments to docket OPP-2004-0404 are provided in the Federal Register notice of July 13, 2005 (70 FR 40251).

Please notify the person listed under FOR FURTHER INFORMATION CONTACT if you intend to attend one of these public information sessions. Your RSVP will help us plan appropriately. However, reservations are not required.

List of Subjects in Part 155

Environmental protection, Administrative practice and procedure, Agricultural commodities, Pesticides and pests, Reporting and recordkeeping requirements.

Dated: July 19, 2005.
James Jones,
Director, Office of Pesticide Programs.

[FR Doc. 05-14602 Filed 7-20-05; 2:45 pm]

BILLING CODE 6560-50-S